ENVIRONMENTAL PROTECTION AGENCY

[ER-FRL-9033-9]

Environmental Impact Statements; Notice of Availability

Responsible Agency: Office of Federal Activities, General Information (202) 564-7146 or http://www.epa.gov/nepa.

Weekly receipt of Environmental Impact Statements (EISs)

Filed 06/19/2017 Through 06/23/2017

Pursuant to 40 CFR 1506.9.

Notice

Section 309(a) of the Clean Air Act requires that EPA make public its comments on EISs issued by other Federal agencies. EPA's comment letters on EISs are available at: http://www.epa.gov/compliance/nepa/eisdata.html.

EIS No. 20170111, Final, DOC, PROG, Non-Contiguous Region of the Nationwide Public Safety Broadband Network, Review Period Ends: 07/31/2017, Contact: Amanda Goebel Pereira 202-280-9364.

EIS No. 20170112, Draft Supplement, USACE, AK, Alaska Stand Alone Pipeline Project, Comment Period Ends: 08/14/2017, Contact: Sandy P. Gibson 907-753-2877.

EIS No. 20170113, Final, FERC, WV, Mountain Valley Project and Equitrans Expansion Project, Review Period Ends: 07/31/2017, Contact: Paul Friedman 202-502-8059.

EIS No. 20170114, Draft, USN, VA, Atlantic Fleet Training and Testing, Comment Period Ends: 08/14/2017, Contact: Todd Kraft 757-836-2943.

EIS No. 20170115, Final, USFS, WV, ADOPTION—Mountain Valley Project and Equitrans Expansion Project, Contact: Karen Overcash 540-265-5175.

The U.S. Department of Agriculture's Forest Service (USFS) has adopted the Federal Energy Regulatory Commission's FEIS #20170113, filed with EPA 06/22/2017. The USFS was a cooperating agency for this project.

Therefore, re-circulation of the document is not necessary under Section 1506.3(c) of the CEQ Regulations.

EIS No. 20170116, Final, USFS, OR, ADOPTION—Proposed Land Use Plan Amendment for the Boardman to Hemingway Transmission Line Project, Contact: Arlene Blumton 541-962-8522

The U.S. Department of Agriculture's Forest Service (USFS) has adopted the U.S. Department of the Interior's Bureau of Land Management's FEIS #20160278, filed with EPA 11/18/2016. The USFS was a cooperating agency for this project. Therefore, re-circulation of this document is not necessary under Section 1506.3(c) of the CEQ Regulations.

Amended Notices

EIS No. 20110386, Draft Supplement, USFS, ID, WITHDRAWN—Upper Lochsa Land Exchange Project, Comment Period Ends: 02/16/2012, Contact: Teresa Trulock 208-935-4256.

Revision to FR Notice Published01/13/2012; Officially Withdrawn per request of the U.S. Forest Service.

EIS No. 20170109, Final, BLM, AZ, WITHDRAWN—Sonoran Desert National Monument Target Shooting Proposed Resource Management Plan Amendment, Review Period Ends: 07/24/2017, Contact: Wayne Monger 623-580-5683.

Revision to FR Notice Published06/23/2017; Officially Withdrawn per request of the Bureau Land Management.

Dated: June 27, 2017.
Dawn Roberts,
Management Analyst, NEPA Compliance Division, Office of Federal Activities.

[FR Doc. 2017-13831 Filed 6-29-17; 8:45 am]

BILLING CODE 6560-50-P